SECURITIES AND EXCHANGE COMMISSION

[Release No. 34-65047; File No. SR-NYSEAmex-2011-56]

Self-Regulatory Organizations; NYSE Amex LLC; Notice of Filing and Immediate Effectiveness of Proposed Rule Change Amending NYSE Amex Options Rule 985NY To Permit Qualified Contingent Cross Orders To Be Electronically Submitted to the NYSE Amex System From the Floor of the Exchange for Potential Execution

August 5, 2011.

Correction

In notice document 2011-20388 appearing on pages 49812-49815 in the issue of August 11, 2011, make the following correction:

On page 49815, in the third column, in the first full paragraph, in the last line, “August 31, 2011” should read “September 1, 2011.”

[FR Doc. C1-2011-20388 Filed 8-16-11; 8:45 am]

BILLING CODE 1505-01-D